DEPARTMENT OF THE TREASURY

Internal Revenue Service

26 CFR Part 1

Treatment of Services Under Section 482; Allocation of Income and Deductions From Intangible Property; Stewardship Expense

CFR Correction

In Title 26 of the Code of Federal Regulations, Part 1 (§§ 1.851 to 1.907), revised as of April 1, 2012, on page 174, in § 1.861-8, paragraph (h) is removed.

[FR Doc. 2013-07104 Filed 3-25-13; 8:45 am]

BILLING CODE 1505-01-D